DEPARTMENT OF TRANSPORTATION

Office of the Secretary

[Docket No.: DOT-OST-2025-0038]

U.S. Department of Transportation Advisory Board

AGENCY: Office of the Secretary, U.S. Department of Transportation (DOT).

ACTION: Establishment of the U.S. Department of Transportation Advisory Board and solicitation of nominations for membership.

SUMMARY: The Department announces the establishment of the U.S. Department of Transportation Advisory Board, which is intended to provide strategic vision and high-level guidance to modernize and enhance the United States transportation systems. In addition, the Department is soliciting nominations for membership of the Board.

DATES: The deadline for nominations for Committee members must be received on or before June 2, 2025.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

FOR FURTHER INFORMATION CONTACT: USDOT Advisory Board Designated Federal Officer, c/o Juli Huynh—Director, Office of Policy Coordination and Development, Office of the Secretary, DOTAdvisoryBoard@dot.gov or (202) 366-2278.

SUPPLEMENTARY INFORMATION: The Department announces the establishment of the U.S. Department of Transportation Advisory Board (USDOT Advisory Board). The purpose of the USDOT Advisory Board is to provide strategic vision and high-level guidance to modernize and enhance the United States' transportation systems. With the American Society of Civil Engineers estimating that over $4 trillion is needed to improve U.S. infrastructure from a D rating to a B, the Board's expertise will be instrumental in shaping policies and initiatives that drive safety, efficiency, resiliency, and long-term progress.

In particular, the USDOT Advisory Board will be dedicated to: (1) developing strategic recommendations for infrastructure modernization and expansion; (2) identifying key investment opportunities in transportation technology and innovation; (3) providing insights into regulatory and policy improvements to enhance efficiency and reduce bureaucratic obstacles; and (4) advising on public-private partnerships to maximize funding and impact. The Board will be continuing, but subject to renewal every two years. The Board is expected to meet quarterly. The Secretary, in consultation with the Board, may create subcommittees to work on specific tasks. Unless otherwise required by law or approved by the Secretary, all meetings will be held virtually.

In this notice, the Department is also soliciting nominations for membership to the Board. The Board shall report to the Secretary and shall consist of approximately ten members, representing a range of industry leaders and experts across key sectors of transportation, including aviation, logistics, infrastructure, construction, finance, and legal affairs. Members will serve two year terms but may be reappointed. The Department is interested in ensuring a balanced membership that appropriately represents the varied interests of transportation stakeholders, including industry leaders and experts across key sectors of transportation, including aviation, logistics, infrastructure, construction, finance, and legal affairs.

Process and Deadline for Submitting Nominations: Qualified individuals can self-nominate or be nominated by any individual or organization. To be considered for the USDOT Advisory Board, nominators should submit the following information:

(1) Name, title, and relevant contact information (including phone, fax, and email address) of the individual requesting consideration;

(2) A letter of support from a company, union, trade association, academic or non-profit organization on letterhead containing a brief description why the nominee should be considered for membership;

(3) Short biography of nominee including professional and academic credentials;

(4) An affirmative statement that the nominee meets all Committee eligibility requirements.

Please do not send company, trade association, or organization brochures or any other information. Materials submitted should total two pages or less. Should more information be needed, DOT staff will contact the nominee, obtain information from the nominee's past affiliations, or obtain information from publicly available sources, such as the internet.

Nominations must be received before June 2, 2025. Nominees selected for appointment to the Board will be notified by return email and by a letter of appointment.

Issued in Washington, DC.
Gregory D. Cote,
Acting General Counsel.

[FR Doc. 2025-08788 Filed 5-15-25; 8:45 am]

BILLING CODE 4910-9X-P